DEPARTMENT OF COMMERCE

National Oceanic and Atmospheric Administration

RIN 0648-XC339

North Pacific Fishery Management Council; Public Meeting

AGENCY: National Marine Fisheries Service (NMFS), National Oceanic and Atmospheric Administration (NOAA), Commerce.

ACTION: Notice of a public meeting.

SUMMARY: The North Pacific Fishery Management Council's (Council) Steller Sea Lion Mitigation Committee (SSLMC) will meet in Seattle, WA.

DATES: The meeting will be held November 28-29, 2012, from 8:30 a.m. through 5 p.m. AST.

ADDRESSES: The meeting will be held at the Alaska Fishery Science Center, 7600 Sand Point Way NE., Seattle, Washington.

Council address: North Pacific Fishery Management Council, 605 W. 4th Ave., Suite 306, Anchorage, AK 99501-2252.

FOR FURTHER INFORMATION CONTACT: Steve MacLean, North Pacific Fishery Management Council; telephone: (907) 271-2809.

SUPPLEMENTARY INFORMATION: At this meeting, the SSLMC will be reviewing proposals for alternatives to be considered in the 2012 Steller Sea Lion Protection Measures EIS currently being prepared by NMFS. The SSLMC will begin drafting one or more alternatives for recommendation to the Council in December, 2012. Proposals under consideration will be posted on the Council's Web site at http://www.alaskafisheries.noaa.gov/npfmc/conservation-issues/ssl.html. Please note that State or Federal ID will be required to enter the Federal Building in Juneau. Foreign nationals wishing to attend this meeting in person should contact the Council as soon as possible to expedite security clearance at the Federal Building in Juneau.

Additional information is posted on the Council Web site: http://www.alaskafisheries.noaa.gov/npfmc/.

The meeting will be webcast to allow the public to watch and hear presentations. Comments will not be accepted via webcast or teleconference.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Gail Bendixen, (907) 271-2809, at least 5 working days prior to the meeting date.

Dated: November 6, 2012.
Tracey L. Thompson,
Acting Deputy Director, Office of Sustainable Fisheries, National Marine Fisheries Service.

[FR Doc. 2012-27376 Filed 11-8-12; 8:45 am]

BILLING CODE 3510-22-P